DEPARTMENT OF HEALTH AND HUMAN SERVICES

National Institutes of Health

Center for Scientific Review; Amended Notice of Meeting

Notice is hereby given of a change in the meeting of the Center for Scientific Review Special Emphasis Panel, August 7, 2003, 8 a.m. to August 8, 2003, 5 p.m., Holiday Inn Chevy Chase, 5520 Wisconsin Avenue, Chevy Chase, MD 20815, which was published in the Federal Register on July 21, 2003, 68 FR 43141-43142.

The meeting will be held on August 25-26, 2003. The meeting times and location remain the same. The meeting is closed to the public.

Dated: July 24, 2003.
LaVerne Y. Stringfield,
Director, Office of Federal Advisory Committee Policy.

[FR Doc. 03-19560 Filed 7-31-03; 8:45 am]

BILLING CODE 4140-01-M